DEPARTMENT OF TRANSPORTATION

Federal Aviation Administration

14 CFR Part 39

[Docket No. FAA-2015-8136; Directorate Identifier 2014-NM-189-AD; Amendment 39-18480; AD 2016-08-04]

RIN 2120-AA64

Airworthiness Directives; Airbus Airplanes

AGENCY: Federal Aviation Administration (FAA), Department of Transportation (DOT).

ACTION: Final rule.

SUMMARY: We are adopting a new airworthiness directive (AD) for certain Airbus Model A330-223F and -243F airplanes. This AD was prompted by a report of missing fasteners in certain locations of the fuselage during production. This AD would require inspecting for missing, damaged, or incorrectly installed fasteners; and corrective actions if necessary. We are issuing this AD to detect and correct cracking of the fuselage due to missing, damaged, or incorrectly installed fasteners, which could result in reduced structural integrity of the fuselage.

DATES: This AD is effective May 18, 2016.

The Director of the Federal Register approved the incorporation by reference of certain publications listed in this AD as of May 18, 2016.

ADDRESSES: For service information identified in this final rule, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2015-8136.

Examining the AD Docket

You may examine the AD docket on the Internet at http://www.regulations.gov by searching for and locating Docket No. FAA-2015-8136; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Discussion

We issued a notice of proposed rulemaking (NPRM) to amend 14 CFR part 39 by adding an AD that would apply to certain Airbus Model A330-223F and -243F airplanes. The NPRM published in the Federal Register on January 4, 2016 (81 FR 22) (“the NPRM”). The NPRM was prompted by a report of missing fasteners in certain locations of the fuselage during production. The NPRM proposed to require inspecting for missing, damaged, or incorrectly installed fasteners; and corrective actions if necessary. We are issuing this AD to detect and correct cracking of the fuselage due to missing, damaged, or incorrectly installed fasteners, which could result in reduced structural integrity of the fuselage.

The European Aviation Safety Agency (EASA), which is the Technical Agent for the Member States of the European Union, has issued EASA Airworthiness Directive 2014-0197, dated September 4, 2014 (referred to after this as the Mandatory Continuing Airworthiness Information, or “the MCAI”), to correct an unsafe condition for certain Airbus Model A330-223F and -243F airplanes. The MCAI states:

During inspection of various fuselage areas on some A330-200F aeroplanes on the production line, prior to delivery, some fasteners were found missing.

This condition, if not detected and corrected, could lead to crack initiation and propagation, possibly resulting in reduced structural integrity of the fuselage.

To address this condition, Airbus issued several Service Bulletins (SB), providing inspection and modification instructions, as applicable.

For the reasons described above, this [EASA] AD requires detailed inspections of the affected areas and, depending on findings, accomplishment of the applicable corrective actions.

Corrective actions include replacing any missing, damaged, or incorrectly installed fasteners, and repair of any discrepancy (deformation or cracking of the fastener rows) of the affected fuselage frame areas. You may examine the MCAI in the AD docket on the Internet at http://www.regulations.gov by searching for and locating Docket No. FAA-2015-8136.

Comments

We gave the public the opportunity to participate in developing this AD. We received no comments on the NPRM or on the determination of the cost to the public.

Conclusion

We reviewed the relevant data and determined that air safety and the public interest require adopting this AD as proposed except for minor editorial changes. We have determined that these minor changes:

• Are consistent with the intent that was proposed in the NPRM for correcting the unsafe condition; and

• Do not add any additional burden upon the public than was already proposed in the NPRM.

Related Service Information Under 1 CFR Part 51

We reviewed the following Airbus service information, which describes procedures for inspecting for missing, damaged, or incorrectly installed fasteners; and corrective actions.

• Airbus Service Bulletin A330-53-3202, dated May 6, 2014.

• Airbus Service Bulletin A330-53-3212, dated May 6, 2014.

• Airbus Service Bulletin A330-53-3213, dated May 6, 2014.

• Airbus Service Bulletin A330-53-3214, dated May 6, 2014.

We also reviewed the following Airbus service information, which describes procedures for modification of certain sections of the fuselage.

• Airbus Service Bulletin A330-53-3216, dated May 6, 2014.

• Airbus Service Bulletin A330-53-3217, dated May 6, 2014.

• Airbus Service Bulletin A330-53-3218, dated May 6, 2014.

• Airbus Service Bulletin A330-53-3219, dated May 6, 2014.

This service information is reasonably available because the interested parties have access to it through their normal course of business or by the means identified in the ADDRESSES section.

Costs of Compliance

We estimate that this AD affects 3 airplanes of U.S. registry.

We also estimate that it will take about 10 work-hours per product to comply with the basic inspection requirements of this AD, and 1 work-hour per product to report inspection findings. The average labor rate is $85 per work-hour. Based on these figures, we estimate the cost of this AD on U.S. operators to be $2,805, or $935 per product.

In addition, we estimate that any necessary modification will take about 40 work-hours and require parts costing $210, for a cost of $3,610 per product. We have no way of determining the number of aircraft that might need this action.

We have received no definitive data that would enable us to provide a cost estimate for the on-condition repairs specified in this AD.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-08-04 Airbus: Amendment 39-18480; Docket No. FAA-2015-8136; Directorate Identifier 2014-NM-189-AD.

(a) Effective Date

This AD is effective May 18, 2016.

(b) Affected ADs

None.

(c) Applicability

This AD applies to Airbus Model A330-223F and -243F airplanes, certificated in any category; manufacturer serial numbers 1004, 1032, 1051, 1062, 1070, 1092, 1115, 1136, 1148, 1164, 1175, 1180, 1320, 1332, 1344, 1350, 1368, 1380, 1386, 1406, 1414, 1418, and 1428.

(d) Subject

Air Transport Association (ATA) of America Code 53, Fuselage.

(e) Reason

This AD was prompted by a report of missing fasteners in certain locations of the fuselage during production. We are issuing this AD to prevent cracking of the fuselage due to missing, damaged, or incorrectly installed fasteners, which could result in reduced structural integrity of the fuselage.

(f) Compliance

Comply with this AD within the compliance times specified, unless already done.

(g) Detailed Inspection

Within 72 months since first flight of the airplane: Do a detailed inspection of all applicable fuselage zones for missing, damaged, or incorrectly installed fasteners, in accordance with the Accomplishment Instructions of the applicable service information specified in paragraphs (g)(1) through (g)(4) of this AD.

(1) Airbus Service Bulletin A330-53-3202, dated May 6, 2014.

(2) Airbus Service Bulletin A330-53-3212, dated May 6, 2014.

(3) Airbus Service Bulletin A330-53-3213, dated May 6, 2014.

(4) Airbus Service Bulletin A330-53-3214, dated May 6, 2014.

(h) Corrective Actions

If any missing, damaged, or incorrectly installed fastener is found during the detailed inspection required by paragraph (g) of this AD, before further flight, do a detailed inspection for discrepancies (deformation or cracking) of the adjacent fastener rows of the applicable fuselage zones, in accordance with the Accomplishment Instructions of the applicable service information specified in paragraphs (g)(1) through (g)(4) of this AD.

(1) If no discrepancy is found, before further flight, modify the affected fuselage zone, in accordance with the applicable service information specified in paragraphs (h)(1)(i) through (h)(1)(iv) of this AD.

(i) Airbus Service Bulletin A330-53-3216, dated May 6, 2014.

(ii) Airbus Service Bulletin A330-53-3217, dated May 6, 2014.

(iii) Airbus Service Bulletin A330-53-3218, dated May 6, 2014.

(iv) Airbus Service Bulletin A330-53-3219, dated May 6, 2014.

(2) If any discrepancy is found, before further flight, repair using a method approved by the Manager, International Branch, ANM-116, Transport Airplane Directorate, FAA; or the European Aviation Safety Agency (EASA); or Airbus's EASA Design Organization Approval (DOA).

(i) Reporting Requirement

Submit a report (including both positive and negative findings) to Airbus, Customer Services Directorate, 1 Rond Point Maurice Bellonte, 31707 Blagnac Cedex France, Attn: SDC32 Technical Data and Documentation Services; fax: (+33) 5 61 93 28 06; email: sb.reporting@airbus.com; at the applicable time specified in paragraph (i)(1) or (i)(2) of this AD. The report must include the information specified in the inspection report of the applicable service information specified in paragraphs (g)(1) through (g)(4) of this AD.

(1) For airplanes on which the inspection specified in paragraph (g) of this AD is accomplished on or after the effective date of this AD: Submit the report within 30 days after performing the inspection.

(2) For airplanes on which the inspection specified in paragraph (g) of this AD is accomplished before the effective date of this AD: Submit the report within 30 days after the effective date of this AD.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the EASA; or Airbus's EASA DOA. If approved by the DOA, the approval must include the DOA-authorized signature.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(4) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

Refer to Mandatory Continuing Airworthiness Information (MCAI) EASA Airworthiness Directive 2014-0197, dated September 4, 2014, for related information. This MCAI may be found in the AD docket on the Internet at http://www.regulations.gov by searching for and locating Docket No. FAA-2015-8136.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A330-53-3202, dated May 6, 2014.

(ii) Airbus Service Bulletin A330-53-3212, dated May 6, 2014.

(iii) Airbus Service Bulletin A330-53-3213, dated May 6, 2014.

(iv) Airbus Service Bulletin A330-53-3214, dated May 6, 2014.

(v) Airbus Service Bulletin A330-53-3216, dated May 6, 2014.

(vi) Airbus Service Bulletin A330-53-3217, dated May 6, 2014.

(vii) Airbus Service Bulletin A330-53-3218, dated May 6, 2014.

(viii) Airbus Service Bulletin A330-53-3219, dated May 6, 2014.

(3) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on March 31, 2016.
Victor Wicklund,
Acting Manager, Transport Airplane Directorate, Aircraft Certification Service.

[FR Doc. 2016-08366 Filed 4-12-16; 8:45 am]

BILLING CODE 4910-13-P